INTERNATIONAL TRADE COMMISSION

[Investigation No. 337-TA-1062]

Certain Backpack Chairs; Notice of a Commission Determination Not To Review an Initial Determination Terminating the Investigation Based on a Withdrawal of the Complaint; Termination of the Investigation

AGENCY: U.S. International Trade Commission.

ACTION: Notice.

SUMMARY: Notice is hereby given that the U.S. International Trade Commission has determined not to review an initial determination (“ID”) (Order No. 5) of the presiding administrative law judge (“ALJ”), granting a motion to terminate the above-captioned investigation in its entirety based on a withdrawal of the complaint.

FOR FURTHER INFORMATION CONTACT: Cathy Chen, Esq., Office of the General Counsel, U.S. International Trade Commission, 500 E Street SW., Washington, DC 20436, telephone (202) 205-2392. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on July 12, 2017, based on a complaint filed on behalf of Rio Brands, LLC of West Conshohocken, Pennsylvania. 82 FR 32199 (July 12, 2017). The complaint alleges violations of section 337 of the Tariff Act of 1930, as amended, 19 U.S.C. 1337, by reason of infringement of a claim of U.S. Patent No. RE 39,022. The complaint further alleges that a domestic industry exists. The Commission's notice of investigation named CGI Outdoor, Inc. of Higganum, Connecticut, as respondent. The Office of Unfair Import Investigations did not participate in the investigation.

On October 27, 2017, Complainant filed a motion to terminate the investigation in its entirety under Commission Rule 210.21(a)(1), based on a withdrawal of the complaint. Order No. 5 at 1. Respondent submitted a response but did not oppose the motion to terminate. Id. at 1-2.

On November 6, 2017, the ALJ issued the subject ID granting the motion and terminating the investigation in its entirety. Id. at 3. The ALJ found that the motion complies with the Commission Rules and that termination of the investigation is not contrary to the public interest. Id. at 2. The ALJ also found that no extraordinary circumstances prevent termination of the investigation based on a withdrawal of the complaint. Id.

No petitions for review were filed. The Commission has determined not to review the ID.

The authority for the Commission's determination is contained in section 337 of the Tariff Act of 1930, as amended, 19 U.S.C. 1337, and in part 210 of the Commission's Rules of Practice and Procedure, 19 CFR part 210.

By order of the Commission.
Issued: November 21, 2017.
Katherine M. Hiner,
Supervisory Attorney.

[FR Doc. 2017-25543 Filed 11-24-17; 8:45 am]

BILLING CODE 7020-02-P